DEPARTMENT OF THE INTERIOR

National Park Service

[N6777; NPS-WASO-NAGPRA-NPS0041542; PPWOCRADN0-PCU00RP14.R50000]

Notice of Inventory Completion: The University of Tennessee, Department of Anthropology, Knoxville, TN

AGENCY: National Park Service, Interior.

ACTION: Notice.

SUMMARY: In accordance with the Native American Graves Protection and Repatriation Act (NAGPRA), the University of Tennessee, Knoxville, Department of Anthropology (UTK) has completed an inventory of human remains and associated funerary objects and has determined that there is a cultural affiliation between the human remains and associated funerary objects and Indian Tribes or Native Hawaiian organizations in this notice.

DATES: Repatriation of the human remains and associated funerary objects in this notice may occur on or after January 20, 2026.

ADDRESSES: Send written requests for repatriation of the human remains and associated funerary objects in this notice to Dr. Ellen Lofaro, University of Tennessee, Office of Repatriation, 5723 Middlebrook Pike, Knoxville, TN 37996, email nagpra@utk.edu.

SUPPLEMENTARY INFORMATION: This notice is published as part of the National Park Service's administrative responsibilities under NAGPRA. The determinations in this notice are the sole responsibility of UTK, and additional information on the determinations in this notice, including the results of consultation, can be found in its inventory or related records. The National Park Service is not responsible for the determinations in this notice.

Abstract of Information Available

Human remains representing, at least, one individual have been identified. No associated funerary objects are present. This individual was removed from the Curry Farm site (14GR301) between 1963 and 1964. The Curry Farm site is located along the Verdigris River in Greenwood County, KS and dates to the Middle Woodland Greenwood Phase (c. 120-600 CE), with unspecified earlier Archaic components. The site was identified by the landowner in 1963, H.C. Curry, who exposed human remains while digging on the property. Curry notified Tom Witty, Kansas State Historical Society (KSHS), who led salvage excavations between 1963 and 1964. The individual housed at UTK was removed during these salvage excavations and sent by Witty to William Bass for examination in October of 1965 at University of Kansas (KU). Records indicate that Bass likely retained this individual and brought them to UTK in 1971.

Human remains representing, at least, one individual have been identified. The three lots of associated funerary objects are ceramics, lithics, and other objects placed with or near human remains. This individual and the associated funerary objects were likely removed from unnamed archaeological site in Riley County, KS (14RY302) by a local collector and donated to KSHS in 1961. The 14RY302 site is multicomponent, and reports suggest these remains and objects likely date to the Late Archaic component of the site (c. 1000 BCE). The remains were sent to William Bass by Tom Witty for examination at KU in 1964. A note from Tom Witty, dated August 10th, 1961, was present with the human remains and identified 14RY301, Strafuss, as the location the human remains and objects were removed from. Review of records from KSHS and UTK by KSHS staff indicates 14RY302 is the correct site location. It is likely this individual and the associated objects were retained by Bass and brought with him to UTK in 1971.

Human remains representing, at least, one individual have been identified. No associated funerary objects are present. This individual was removed from an unknown location in Butler County, KS on an unknown date. Records indicate this individual was sent to William Bass at KU by the Butler County Sheriff for examination after they were confiscated by law enforcement. Bass sent his determination to the Butler County Sheriff in a memo dated July 29th, 1969. This individual was likely retained by Bass and transported with him when he came to UTK in 1971. A preservative was applied to some of the remains at some point after Bass retained them.

Human remains representing, at least, two individuals, have been identified. The three lots of associated funerary objects are ceramics, lithics, and other objects placed with or near human remains. These remains were removed from an unknown location in Morris County, KS on an unknown date by an unknown individual. Based on patterns of past practice, it is likely that these individuals were retained by Bass in Kansas and brought with him to UTK in 1971.

Human remains representing, at least, one individual, have been identified. No associated funerary objects are present. This individual was removed from an unknown location in Kansas by an unknown individual on an unknown date. UTK has no records related to this individual, but based on past patterns of practice, it is likely they came to UTK through Bass.

Information regarding the presence of potentially hazardous substances has previously been shared with consulting parties.

Cultural Affiliation

Based on the information available and the results of consultation, cultural affiliation is clearly identified by the information available about the human remains and associated funerary objects described in this notice.

Determinations

UTK has determined that:

• The human remains described in this notice represent the physical remains of six individuals of Native American ancestry.

• The six lots of objects described in this notice are reasonably believed to have been placed intentionally with or near individual human remains at the time of death or later as part of the death rite or ceremony.

• There is a connection between the human remains and associated funerary objects described in this notice and the Cheyenne and Arapaho Tribes, Oklahoma; Kaw Nation, Oklahoma; Omaha Tribe of Nebraska; Pawnee Nation of Oklahoma; and the Prairie Band Potawatomi Nation.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after January 20, 2026. If competing requests for repatriation are received, UTK must determine the most appropriate requestor prior to repatriation. Requests for joint repatriation of the human remains and associated funerary objects are considered a single request and not competing requests. UTK is responsible for sending a copy of this notice to the Indian Tribes and Native Hawaiian organizations identified in this notice and any other consulting parties.

Authority: Native American Graves Protection and Repatriation Act, 25 U.S.C. 3003, and the implementing regulations, 43 CFR 10.10.

Dated: December 4, 2025.
Melanie O'Brien,
Manager, National NAGPRA Program.

[FR Doc. 2025-23348 Filed 12-18-25; 8:45 am]

BILLING CODE 4312-52-P